DEPARTMENT OF JUSTICE

Notice of Lodging of Consent Decree Under the Comprehensive Environmental Response, Compensation, and Liability Act and the Solid Waste Disposal Act

Notice is hereby given that on June 21, 2007, a proposed Consent Decree in United States and California Department of Toxic Substances Control v. Azusa Pipe and Tube Bending Corp., et al., Case No. CV06-165 CAS (RZx) (C.D. Cal.), relating to the Baldwin Park Operable Unit of the San Gabriel Valley Superfund Sites, Areas 1-4, located in and near the cities of Azusa, Irwindale, Baldwin Park, and Covina in Los Angeles County, California (“BPOU”), was lodged with the United States District Court for the Central District of California.

The proposed Consent Decree is a settlement of claims brought against: (1) Azusa Pipe and Tube Bending Corp. (“Azusa Pipe”) as well as individual owners of the Azusa Pipe property (collectively, the “Settling Defendants”), and (2) General Services Administration, Department of the Army, Department of Defense, Department of the Navy, Department of the Air Force, and Army Corps of Engineers (“Settling Federal Agencies”), pursuant to the Comprehensive Environmental Response, Compensation, and Liability Act (“CERCLA”), 42 U.S.C. 9601-9675, and Section 7003 of the Solid Waste Disposal Act, as amended by the Resource Conservation and Recovery Act of 1976 and the Hazardous and Solid Waste Amendments of 1984 (collectively “RCRA”), 42 U.S.C. 6973.

The proposed Consent Decree requires the Settling Defendants to pay $1,025,000 to the United States for response costs incurred by the U.S. Environmental Protection Agency (“EPA”) and the U.S. Department of Justice (“Department of Justice” or “DOJ”), and to pay $75,000 to the California Department of Toxic Substances Control (“DTSC”) for response costs incurred by DTSC. The proposed Consent Decree includes a covenant not to sue the Settling Defendants under Sections 106 and 107 of CERCLA, 42 U.S.C. 9606, 9607, and under Section 7003 of RCRA, 42 U.S.C. 6973.

The proposed consent Decree also requires the Settling Federal Agencies to pay $490,000 to EPA for response costs incurred by EPA DOJ, and to pay $105,000 to DTSC for response costs incurred by DTSC. The Consent Decree includes a covenant not to sue the Settling Federal Agencies under CERCLA Section 107, 42 U.S.C. 9607.

The Department of Justice will receive for a period of thirty (30) days from the date of this publication comments relating to the Consent Decree. Comments should be addressed to the Assistant Attorney General, Environment and Natural Resources Division, and either e-mailed to pubcomment-ees.enrd@usdoj.gov, or mailed to P.O. Box 7611, U.S. Department of Justice, Washington, DC 20044-7611, with a copy to Robert Mullaney, U.S. Department of Justice, 301 Howard Street, Suite 1050, San Francisco, CA 94105, and should refer to United States, et al., v. Azusa Pipe and Tube Bending Corp., et al., D.J. Ref. 90-11-2-354/22. Commenters may request an opportunity for a public meeting in the affected area, in accordance with Section 7003(d) of RCRA, 42 U.S.C. 6973(d).

The Consent Decree may be examined at U.S. EPA Region 9, Office of Regional Counsel, 75 Hawthorne Street, San Francisco, California. During the public comment period, the Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-1547. In requesting a copy from the Consent Decree Library, please enclose a check in the amount of $91.25 (25 cents per page reproduction cost) payable to the U.S. Treasury or, if by e-mail or fax, forward a check in that amount to the Consent Decree Library at the stated address. In requesting a copy exclusive of exhibits, please enclose a check in the amount of $9.25 (25 cents per page reproduction cost) payable to the U.S. Treasury.

Henry Friedman,
Assistant Chief, Environmental Enforcement Section, Environment and Natural Resources Division.

[FR Doc. 07-3271 Filed 7-5-07; 8:45 am]

BILLING CODE 4410-15-M